DEPARTMENT OF THE TREASURY

United States Mint

Establish Pricing for 2019 United States Mint Numismatic Product

AGENCY: United States Mint, Department of the Treasury.

ACTION: Notice.

SUMMARY: The United States Mint is announcing pricing for a new United States Mint numismatic product in accordance with the table below:

Product | 2019 retail price
2019 American Liberty High Relief Silver Medal ™ | $99.95

FOR FURTHER INFORMATION CONTACT: Katrina McDow, Marketing Specialist, Sales and Marketing; United States Mint; 801 9th Street NW; Washington, DC 20220; or call 202-354-8495.

Authority: 31 U.S.C. 5111, 5112, 5132 & 9701.

Dated: July 24, 2019.
Patrick Hernandez,
Chief Administrative Officer, United States Mint.

[FR Doc. 2019-16081 Filed 7-29-19; 8:45 am]

BILLING CODE P